DEPARTMENT OF THE INTERIOR

National Park Service

[2253-665]

Notice of Inventory Completion: U.S. Department of the Interior, Bureau of Reclamation, Phoenix Area Office, Phoenix, AZ and Arizona State Museum, University of Arizona, Tucson, AZ

AGENCY: National Park Service, Interior.

ACTION: Notice.

SUMMARY: The Bureau of Reclamation, Phoenix Area Office and Arizona State Museum have completed an inventory of a human remain, in consultation with the appropriate Indian Tribes, and have determined that there is a cultural affiliation between the human remain and present-day Indian Tribes. Representatives of any Indian Tribe that believes itself to be culturally affiliated with the human remain may contact the Bureau of Reclamation, Phoenix Area Office. Repatriation of the human remain to the Indian Tribes stated below may occur if no additional claimants come forward.

DATES: Representatives of any Indian Tribe that believes it has a cultural affiliation with the human remain should contact the Bureau of Reclamation, Phoenix Area Office at the address below by October 19, 2011.

ADDRESSES: Randy Chandler, Area Manager, Bureau of Reclamation, Phoenix Area Office, 6150 West Thunderbird Rd., Glendale, AZ 85306-4001.

SUPPLEMENTARY INFORMATION: Notice is here given in accordance with the Native American Graves Protection and Repatriation Act (NAGPRA), 25 U.S.C. 3003, of the completion of an inventory of a human remain in the control of the U.S. Department of the Interior, Bureau of Reclamation, Phoenix Area Office, Phoenix, AZ, and in the physical custody of the Arizona State Museum, University of Arizona, Tucson, AZ. The human remain was removed from Pinal County, AZ.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remain was made by Arizona State Museum professional staff on behalf of the Bureau of Reclamation, Phoenix Area Office, in consultation with representatives of the Ak-Chin Indian Community of the Maricopa (Ak-Chin) Indian Reservation, Arizona; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico (hereinafter referred to as “The Tribes”).

History and Description of the Remains

Between February and May 1975, a human remain—a mandible fragment—representing one individual was removed from a pack rat nest located on the talus slope below the mouth of a rock shelter, site AZ U: 16:213(ASM), in Pinal County, AZ, during a legally authorized Class III (Intensive) cultural resource survey undertaken by the Arizona State Museum for the Bureau of Reclamation. The site is located on the north side of Gila River, east of Florence, and downstream of the “Buttes” on the Gila River where a proposed dam was to be built during the Central Arizona Project. In 2010, Arizona State Museum reviewed uncatalogued site survey collections, which revealed the presence of this isolated Native American mandible fragment from a survey on Reclamation withdrawn lands along the Middle Gila River. There have been other Notices of Inventory Completion (NICs) published in the Federal Register for the Central Arizona Project (39 FR 8996-9002, February 27, 2002; 67 FR 45539-45540, July 9, 2002; and 67 FR 78247-78248, December 23, 2002). The materials reported in the earlier NICs were repatriated to the affiliated Tribes in October and November of 2002. No known individual was identified. No associated funerary objects are present.

Site AZ U:16:213(ASM) was classified as a secondary habitation site, and no diagnostic ceramics were present to place the site in a temporal or cultural sequence. Nonetheless, on the basis of archeological context, chronometric, architectural, ceramic, and other types of artifactual evidence at adjacent sites recorded during the survey, AZ U:16:213(ASM) most likely represents a Hohokam occupation of the Middle Gila.

Evidence provided by anthropological, archeological, biological, geographical, historical, kinship, linguistics, and oral tradition sources was considered in determining the cultural affiliation of the human remain. Bureau of Reclamation officials have determined that the preponderance of the evidence suggests that the historic O'odham groups (The Four Southern Tribes: Ak-Chin Indian Community of the Maricopa (Ak-Chin) Indian Reservation, Arizona; Gila River Indian Community of the Gila River Indian Reservation, Arizona; Salt River Pima-Maricopa Indian Community of the Salt River Reservation, Arizona; and the Tohono O'odham Nation of Arizona, including the San Xavier District) have a strong cultural affiliation with the prehistoric Hohokam who occupied the middle Gila Valley and surrounding areas. Great similarities in settlement patterns, economic systems, architecture, and material culture point to a close relationship between the Hohokam and the O'odham groups. The O'odham were well established along the rivers and in the deserts when the Spanish first arrived in northern Sonora and southern Arizona.

One of the two Pima moieties claims descent from the Hohokam, while the other moiety is said to have descended from the “emergers,” those who overthrew the Hohokam leaders. Although the O'odham belong to the same linguistic group (Piman) as communities in what is now northern Mexico, shared vocabulary and syntax with Yuman language groups along the Colorado River suggests a long-term history of interaction that stretches back into prehistoric times in what is now southern Arizona.

Evidence also shows the affiliation of ancestral Zuni and Hopi groups with the prehistoric Hohokam. Interaction is indicated by the presence of trade items, particularly ceramics. Such interaction continued into protohistoric and early historic times. In addition to trade, Hopi and Zuni migration traditions indicate that clans originating from areas south of the Colorado Plateau joined the plateau communities late in prehistoric times. These groups contributed ceremonies, societies, and iconography to the plateau groups. Both O'odham and Western Pueblo oral traditions indicate that some Hohokam groups may have left the Salt-Gila River Basin after disastrous floods and social upheaval. These groups traveled north and east, possibly to be assimilated by the Hopi and Zuni. These ties are reflected in some of the traditional ceremonies maintained as part of the annual ceremonial cycle. Their ancestors had trade relationships and other likely interactions with the Hohokam, similar to those found between groups in the early historic period. Hopi and Zuni oral traditions indicate that segments of the prehistoric Hohokam population migrated to the areas occupied by the Hopi and Zuni and were assimilated into the resident populations. Therefore, the evidence suggests that the Hopi and Zuni are also culturally affiliated with the Hohokam.

Determinations Made by the Bureau of Reclamation, Phoenix Area Office

Officials of the Bureau of Reclamation, Phoenix Area Office have determined that:

• Pursuant to 25 U.S.C. 3001(9), the human remains described in this notice represent the physical remain of one individual of Native American ancestry.

• Pursuant to 25 U.S.C. 3001(2), there is a relationship of shared group identity that can be reasonably traced between the Native American human remain and The Tribes.

Additional Requestors and Disposition

Representatives of any other Indian Tribe that believes itself to be culturally affiliated with the human remain should contact, in writing, Randy Chandler, Area Manager, Bureau of Reclamation, Phoenix Area Office, 6150 West Thunderbird Rd., Glendale, AZ 85306-4001, before October 19, 2011. Repatriation of the human remain to The Tribes may proceed after that date if no additional claimants come forward.

The Bureau of Reclamation is responsible for notifying The Tribes; Chemehuevi Indian Tribe of the Chemehuevi Reservation, California; Cocopah Tribe of Arizona; Colorado River Indian Tribes of the Colorado River Indian Reservation, Arizona and California; Fort McDowell Yavapai Nation, Arizona; Fort Mohave Indian Tribe of Arizona, California & Nevada; Pascua Yaqui Tribe of Arizona; Quechan Tribe of the Fort Yuma Indian Reservation, California & Arizona; San Carlos Apache Tribe of the San Carlos Reservation, Arizona; Tonto Apache Tribe of Arizona; White Mountain Apache Tribe of the Fort Apache Reservation, Arizona; Yavapai-Apache Nation of the Camp Verde Indian Reservation, Arizona; and Yavapai-Prescott Tribe of the Yavapai Reservation, Arizona, that this notice has been published.

Dated: September 14, 2011.
Sherry Hutt,
Manager, National NAGPRA Program.

[FR Doc. 2011-23964 Filed 9-16-11; 8:45 am]

BILLING CODE 4312-50-P